DEPARTMENT OF LABOR

Employment and Training Administration

[NAFTA-04602; NAFTA-04602B; NAFTA-4602C]

Wilkins Industries, Inc.; McRae, GA; Jefferson, GA; and New York Sales Office, New York, NY; Amended Certification Regarding Eligibility To Apply for NAFTA-Transitional Adjustment Assistance

In accordance with section 250(A), subchapter D, chapter 2, Title II, of the Trade Act of 1974 (19 USC 2273), the Department of Labor issued a Certification for NAFTA Transitional Adjustment Assistance on March 30, 2001, applicable to workers of Wilkins Industries, Inc., McRae, GA. The notice was published in the Federal Register on May 2, 2001 (66 FR 22008).

At the request of the company, the Department reviewed the certification for workers of the subject firm. The company reports that worker separations occurred at the Jefferson, Georgia and the New York Sales Office, New York, New York locations of Wilkins Industries, Inc. The Jefferson, Georgia workers are engaged in the production of women's jeanswear. The New York Sales Office workers provide sales, designing and marketing function services for the subject firm's production facilities including McRae, Georgia.

Based on these findings, the Department is amending the certification to include workers of Wilkins Industries, Inc., Jefferson, Georgia and the New York Sales Office, New York, New York.

The intent of the Department's certification is to include all workers of Wilkins Industries, Inc., who were adversely affected by a shift of production of women's jeanswear to Mexico.

The amended notice applicable to NAFTA-04602 is hereby issued as follows:

All workers of Wilkins Industries, Inc., McRae, Georgia (NAFTA-04602), Jefferson, Georgia (NAFTA-04602B) and New York Sales Office, New York, New York (NAFTA-04602C) who became totally or partially separated from employment on or after February 24, 2001, through March 30, 2003, are eligible to apply for NAFTA-TAA under section 250 of the Trade Act of 1974.

Dated: Signed at Washington, DC, this 26th of October, 2001.
Linda G. Poole,
Certifying Officer, Division of, Trade Adjustment Assistance.

[FR Doc. 01-28174 Filed 11-8-01; 8:45 am]

BILLING CODE 4510-30-M